SOCIAL SECURITY ADMINISTRATION

[Docket No. SSA-2019-0058]

Privacy Act of 1974; System of Records

AGENCY: Office of Financial Policy and Operations, Office of Budget, Finance, and Management, Social Security Administration (SSA).

ACTION: Notice of a modified system of records.

SUMMARY: In accordance with the Privacy Act, we are issuing public notice of our intent to modify an existing system of records entitled, Financial Transactions of SSA Accounting and Finance Offices (60-0231), last published on January 11, 2006. This notice publishes details of the modified system as set forth below under the caption, SUPPLEMENTARY INFORMATION.

DATES: The system of records notice (SORN) is applicable upon its publication in today's Federal Register, with the exception of the new routine uses, which are effective February 13, 2020. We invite public comment on the routine uses or other aspects of this SORN. In accordance with 5 U.S.C. 552a(e)(4) and (e)(11), the public is given a 30-day period in which to submit comments. Therefore, please submit any comments by February 13, 2020.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2019-0058. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: tristin.dorsey@ssa.gov.

SUPPLEMENTARY INFORMATION: We are modifying the system of records name from “Financial Transactions of SSA Accounting and Finance Offices, SSA, Deputy Commissioner for Finance, Assessment and Management, Office of Financial Policy and Operations” to “Social Security Online Accounting and Reporting System” to accurately reflect the system. We are modifying the system manager and location to clarify the name of the office.

We are clarifying the categories of individuals covered by the system of records and clarifying how we will store and retrieve records. We are also expanding the categories of records to include collection payment information, taxpayer identification numbers, and email addresses; and expanding the record source categories to include existing SSA systems of records.

In addition, we are revising the language in routine use No. 1 to clarify that we may also provide records to the Department of Treasury, for the purpose of administering licenses for individuals residing in sanctioned foreign countries. We are revising routine use No. 8 by specifying additional debt collection reasons, in which we may disclose information to the Department of Treasury.

We are deleting the following routine uses, of the prior version of the SORN, as they are no longer applicable:

• No. 2—this routine use permitted disclosures to members of Congress, for the purpose of Federal financial assistance.

• No. 5—this routine use permitted disclosures to Federal, State, and local agencies that maintain civil, criminal, or other relevant enforcement records or other pertinent records, for the purpose of obtaining records relevant to an agency decision concerning the hiring or retention of an employee; the issuance of a security clearance; the letting of a contract; or the issuance of a license or other benefit.

• No. 6—this routine use permitted disclosures to Federal agencies, in response to their request, for the purpose of obtaining records relevant and necessary to an agency decision concerning the hiring or retention of an employee; the issuance of a security clearance; the reporting of an investigation of an employee; the letting of a contract; or the issuance of a license or other benefit by the requesting agency.

• No. 7—this routine use permitted disclosures to Federal agencies that have the power to subpoena records, e.g., the Internal Revenue Service or the Civil Rights Commission, in response to a subpoena for information.

• No. 11(a)—this routine use permitted disclosures to the Department of Treasury, for purposes of determining whether an individual has a delinquent tax account and determining an individual's creditworthiness.

We are adding three new routine uses to permit disclosures to the Office of the President, for the purpose of responding to an inquiry received; to Federal, State and local law enforcement agencies and private contractors, for the safety and security of SSA employees, customers, and facilities; and to the Internal Revenue Service, for auditing purposes of the safeguard provisions of Internal Revenue Code of 1986. Lastly, we are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER

Social Security Online Accounting and Reporting System, 60-0231

SECURITY CLASSIFICATION:

Unclassified.

SYSTEM LOCATION:

Social Security Administration, Office of Budget, Finance, and Management, Office of Financial Policy and Operations, 6401 Security Boulevard, Baltimore, Maryland 21235-6401.

SYSTEM MANAGER(S):

Social Security Administration, Deputy Commissioner of Office of Budget, Finance, and Management, Office of Financial Policy and Operations, 6401 Security Boulevard, Baltimore, MD 21235-6401, DCBFM.OFPO.Controls@ssa.gov.

AUTHORITY FOR MAINTENANCE OF THE SYSTEM:

Sections 204 and 1631 of the Social Security Act, as amended; Budget and Accounting Procedures Act of 1950 (Pub. L. 81-784); Debt Collection Act of 1982 (Pub. L. 97-365); Debt Collection Improvement Act of 1996 (Pub. L. 104-134); International Emergency Economic Powers Act (Pub. L. 95-223); Digital Accountability and Transparency Act (Pub. L. 113-101); and SSA Regulations (20 CFR parts 404, 416, and 422).

PURPOSE(S) OF THE SYSTEM:

We will use the information in this system to track payments to individuals, exclusive of salaries and wages; establish receivable records for recovery of overpayments and tracking repayment status; develop reports of non-employee vendors for applicable State and local taxing officials of taxable income; validate and certify payments; and internal auditing.

CATEGORIES OF INDIVIDUALS COVERED BY THE SYSTEM:

This system maintains information about individuals who make payments to or receive payments from us including, but not limited to, employees traveling on official business, employees participating in the vision program, contractors, grantees, consultants, Social Security beneficiaries or recipients who may have been overpaid; and for individuals who have received goods or services for which there is a charge or fee.

CATEGORIES OF RECORDS IN THE SYSTEM:

This system consists of records received, created, or compiled pertaining to collection and summary level payment information including, but not limited to, name; Social Security number (SSN); taxpayer identification number; email address; purpose of payment, accounting classification, and amount paid; credit card information; the amount of indebtedness for overpayments and delinquent grants; repayment status; collection amount; travel vouchers submitted for reimbursement of travel and other expenditures, while on official business; the amount of indebtedness for employee overpayments, exclusive of salaries and wages; and Video Display Terminal (VDT) vouchers submitted for reimbursement of vision costs.

RECORD SOURCE CATEGORIES:

We obtain information in this system of records from existing SSA systems of records such as the Master Beneficiary Record, 60-0090, and Supplemental Security Income Record and Special Veterans Benefits, 60-0103; and from the individual to whom the record pertains, including individual travel and VDT vouchers, grants, contract and purchase order award documents, delinquent grant records, invoices of services rendered or goods received, and applications for travel or salary advances.

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To the Department of the Treasury,

(a) for check preparation;

(b) to provide the Office of Foreign Assets Control relevant and necessary information concerning SSA payments for investigations of individuals, groups, companies, or countries on the Specially Designated National and Blocked Persons List; and

(c) for the purpose of administering licenses for individuals residing in foreign countries.

2. To a congressional office in response to an inquiry from that office made on behalf of, and at the request of, the subject of the record or a third party acting on the subject's behalf.

3. To the Department of Justice (DOJ), in the event that we deem it desirable, or necessary, in determining whether particular records are required to be disclosed under the Freedom of Information Act.

4. To officials of labor organizations recognized under 5 U.S.C. 71, when relevant and necessary to their duties of exclusive representation concerning personnel policies, practices, and matters affecting conditions of employment.

5. To DOJ, a court or other tribunal, or another party before such court or tribunal, when

(a) SSA, or any component thereof; or

(b) any SSA employee in his or her official capacity; or

(c) any SSA employee in his or her individual capacity where DOJ (or SSA where it is authorized to do so) has agreed to represent the employee; or

(d) the United States or any agency thereof where we determine the litigation is likely to affect SSA or any of its components, is a party to the litigation or has an interest in such litigation, and we determine that the use of such records by DOJ, a court or other tribunal, or another party before the tribunal, is relevant and necessary to the litigation, provided, however, that in each case, we determine that such disclosure is compatible with the purpose for which the records were collected.

6. To credit reporting agencies, to obtain a credit report about a potential contractor or grantee in order to determine the potential contractor's or grantee's creditworthiness.

7. To the Department of the Treasury,

(a) to assist us in recovering the collection of delinquent administrative debts through Administrative Wage Garnishment (31 U.S.C. 3720D) via the Treasury Crossing Servicing program as authorized by the Debt Collection Improvement Act of 1996;

(b) to recover debts through reduction of tax refund payments pursuant to 31 U.S.C. 3720A; or

(c) for any other debt collection method authorized under law.

8. To the following entities in order to help collect a debt owed the United States:

(a) to another Federal agency, so that agency can effect a salary offset;

(b) to another Federal agency, so that agency can effect an administrative offset under common law or under 31 U.S.C. 3716 (withholding from money payable to, or held on behalf of, the individual);

(c) to the Department of Treasury, to request the mailing address of an individual under the IRC (26 U.S.C. 6103(m)(2)(A)), for the purpose of locating the individual to collect or compromise a Federal claim against the individual, in accordance with 31 U.S.C. 3711, 3717 and 3718;

(d) to an agent of SSA that is a consumer reporting agency within the meaning of 15 U.S.C. 1681a(f), the mailing address of an individual may be disclosed to such agent for the purpose of allowing such agent to prepare a commercial credit report on the individual for use by SSA in accordance with 31 U.S.C. 3711, 3717 and 3718;

(e) to debt collection agents under 31 U.S.C. 3718 or under common law to help collect a debt; and

(f) to DOJ for litigation or for further administrative action; in accordance with 31 U.S.C. 3711(e)(1)(F), disclosure under parts (a)-(c) and (e) is limited to information necessary to establish the identity of the person, including name, address and taxpayer identification or SSN, the amount status and history of the claim, and the agency or program under which the claim arose.

9. To another Federal agency, that has asked SSA to effect an administrative offset under common law or under 31 U.S.C. 3716, to help collect a debt owed the United States; disclosure under this routine use is limited to the individual's name, address, SSN, and other information necessary to identify the individual information about the money payable to, or held for, the individual, and other information concerning the administrative offset.

10. To IRS and State and local tax authorities, when income and payments are reported to them concerning employees, contractors, and when amounts are written-off as legally or administratively uncollectible, in whole or in part.

11. To banks enrolled in the Treasury credit card network, to collect a payment or debt when the individual has given his or her credit card number for this purpose.

12. To student volunteers, individuals working under a personal services contract, and other workers who technically do not have the status of Federal employees, when they are performing work for us, as authorized by law, and they need access to personally identifiable information (PII) in our records in order to perform their assigned agency functions.

13. To the National Archives and Records Administration (NARA) under 44 U.S.C. 2904 and 2906.

14. To contractors and other Federal agencies, as necessary, for the purpose of assisting us in the efficient administration of its programs. We will disclose information under this routine use only in situations in which we may enter into a contractual or similar agreement to obtain assistance in accomplishing an SSA function relating to this system of records.

15. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

16. To another Federal agency or Federal entity, when we determine that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

17. To the Office of the President, in response to an inquiry received from that office made on behalf of, and at the request of, the subject of record or a third party acting on the subject's behalf.

18. To Federal, State and local law enforcement agencies and private security contractors, as appropriate, information necessary:

(a) To enable them to protect the safety of SSA employees and customers, the security of the SSA workplace and the operation of our facilities, or

(b) to assist investigations or prosecutions with respect to activities that affect such safety and security or activities that disrupt the operation of our facilities.

19. To the IRS, Department of the Treasury, for the purpose of auditing SSA's compliance with the safeguard provisions of the IRC of 1986, as amended.

POLICIES AND PRACTICES FOR STORAGE OF RECORDS:

We will maintain records in this system in paper and in electronic form.

POLICIES AND PRACTICES FOR RETRIEVAL OF RECORDS:

We will retrieve records in this system by name, SSN, voucher number, or collection number.

POLICIES AND PRACTICES FOR RETENTION AND DISPOSAL OF RECORDS:

In accordance with NARA rules codified at 36 CFR 1225.16, we maintain records in accordance with the approved NARA General Records Schedule 1.1, Financial Management and Reporting Records (DAA-GRS-2013-0003-0001 and DAA-GRS-2013-0003-0002).

ADMINISTRATIVE, TECHNICAL, AND PHYSICAL SAFEGUARDS:

We retain electronic and paper files containing personal identifiers in secure storage areas accessible only by our authorized employees and contractors who have a need for the information when performing their official duties. Security measures include, but are not limited to, the use of codes and profiles, personal identification number and password, and personal identification verification cards. We restrict access to specific correspondence within the system based on assigned roles and authorized users. We maintain electronic files with personal identifiers in secure storage areas. We use audit mechanisms to record sensitive transactions as an additional measure to protect information from unauthorized disclosure or modification. We keep paper records in cabinets within secure areas, with access limited to only those employees who have an official need for access in order to perform their duties.

We annually provide our employees and contractors with appropriate security awareness training that includes reminders about the need to protect PII and the criminal penalties that apply to unauthorized access to, or disclosure of, PII (5 U.S.C. 552a(i)(1)). Furthermore, employees and contractors with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

71 FR 1847, Financial Transactions of SSA Accounting and Finance Offices.

72 FR 69723, Financial Transactions of SSA Accounting and Finance Offices.

[FR Doc. 2020-00331 Filed 1-13-20; 8:45 am]

BILLING CODE 4191-02-P